DEPARTMENT OF HEALTH AND HUMAN SERVICES

Centers for Disease Control and Prevention

Performance Review Board Members

AGENCY: Centers for Disease Control and Prevention (CDC), Department of Health and Human Services (HHS).

ACTION: Notice.

SUMMARY: The Centers for Disease Control and Prevention (CDC) located within the Department of Health and Human Services (HHS) announces the names of the Performance Review Board Members who are reviewing performance of Senior Executive Service (SES) members, Title 42 (T42) executives, and Senior Level (SL) employees for Fiscal Year 2021.

FOR FURTHER INFORMATION CONTACT: Henry Greene, Team Chief, Executive and Scientific Resources Office, Human Resources Office, Centers for Disease Control and Prevention, 1600 Clifton Road NE, MS US11-2, Atlanta, Georgia 30329-4027. Telephone (770) 488-1140.

SUPPLEMENTARY INFORMATION: Title 5, U.S.C. 4314(c)(4) of the Civil Service Reform Act of 1978, Public Law 95-454, requires that the appointment of Performance Review Board Members be published in the Federal Register. The following persons will serve on the CDC Performance Review Board, which will oversee the evaluation of performance appraisals of Senior Executive Service members for the Fiscal Year 2021 review period:

Bornstein, Joshua, Co-Chair

Dean, Hazel, Co-Chair

Bonander, Jason

Dulin, Stephanie

Ethier, Kathleen

Kitt, Margaret

Kosmos, Christine

Peeples, Amy

Perry, Terrance

Pirkle, James

Wharton, Melinda

Dated: September 10, 2021.
Sandra Cashman,
Executive Secretary, Centers for Disease Control and Prevention.

[FR Doc. 2021-19907 Filed 9-14-21; 8:45 am]

BILLING CODE 4163-18-P